DEPARTMENT OF THE INTERIOR

Bureau of Land Management

43 CFR Part 2560

[LLAK940000 L14100000.HM0000 20X]

RIN 1004-AE66

Alaska Native Vietnam-Era Veterans Allotments

Correction

In rule document 2020-24954, appearing in the Issue of Friday, November 27, 2020, appearing on pages 75874-75892, make the following changes:

§ 2569.404 (Corrected)

▪ 1. In section 2569.404, on page 75889, in the second column, delete the paragraph designation “(d)” at the end of the section.

§ 2569.405 (Corrected)

▪ 2. In section 2569.405 on page 75889, in the second column, delete the paragraph designation “(e)” immediately following the section heading and immediately prior to paragraph designation “(a)”.

§ 2569.405 (Corrected)

▪ 3. In section 2569.405, on page 75889, in the third column, delete the second “(d)” immediately after the paragraph designated “(d)”.

§ 2569.411 (Corrected)

▪ 4. In section 2569.411, on page 75890, in the first column, delete the second “(c)” immediately after the paragraph designated “(c)”.

§ 2569.501 (Corrected)

▪ 5. In section 2569.501, on page 75891, in the first column, delete the second “(j)” immediately after the paragraph designated “(j)”.

§ 2569.506 (Corrected)

▪ 6. In section 2569.506, on page 75892, in the first column, make the second paragraph “(c)” into a paragraph “(d)”.

[FR Doc. C1-2020-24954 Filed 12-10-20; 8:45 am]

BILLING CODE 1300-00-D